ENVIRONMENTAL PROTECTION AGENCY

[FRL-9993-19-OA]

Notification of a Public Meeting of the Chartered Science Advisory Board

AGENCY: Environmental Protection Agency (EPA).

ACTION: Notice.

SUMMARY: The Environmental Protection Agency (EPA) Science Advisory Board (SAB) Staff Office announces a public meeting of the chartered SAB. Among the topics being discussed will be the EPA's semi-annual regulatory agenda and the agency's request for SAB advice regarding upcoming actions related to an update to the “2005 EPA Guidelines for Carcinogen Risk Assessment” and creation of guidelines for non-cancer risk assessment. In addition, the SAB will receive briefings from the Office of Research and Development and the Office of Water. The full meeting agenda will be posted on the SAB website (http://www.epa.gov/sab) before the meeting.

DATES: The public meeting will be held on Wednesday, June 5, 2019, from 9:30 a.m. to 5:00 p.m. and Thursday June 6, 2019, from 9:00 a.m. to 1:00 p.m.

ADDRESSES: The meeting will be held at the Sphinx on K conference facility, 1315 K Street NW, Washington, DC 20005.

FOR FURTHER INFORMATION CONTACT: Any member of the public who wants further information concerning the meeting may contact Dr. Thomas Armitage, Designated Federal Officer (DFO), EPA Science Advisory Board (1400R), U.S. Environmental Protection Agency, 1200 Pennsylvania Avenue NW, Washington, DC 20460; via telephone/voice mail (202) 564-2155, or email at armitage.thomas@epa.gov. General information concerning the SAB can be found on the EPA website at http://www.epa.gov/sab.

SUPPLEMENTARY INFORMATION:

Background: The SAB was established pursuant to the Environmental Research, Development, and Demonstration Authorization Act (ERDDAA), codified at 42 U.S.C. 4365, to provide independent scientific and technical advice to the Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on topics that include the agency's semiannual regulatory agenda and EPA's request for SAB advice regarding upcoming actions related to an update to the “2005 EPA Guidelines for Carcinogen Risk Assessment” and creation of guidelines for non-cancer risk assessment. As part of the EPA's effort to routinely inform the SAB about proposed and planned agency actions that have a scientific or technical basis, the agency provides notice to the SAB when the Office of Management and Budget publishes the “Unified (Regulatory) Agenda.” The SAB convened a Work Group to review information provided in the agency's spring 2018 regulatory agenda regarding EPA planned actions and their supporting science. The SAB will discuss recommendations and information developed by the Work Group regarding the adequacy of the science supporting the planned actions. EPA is also asking for SAB advice regarding upcoming actions related to an update to the “2005 EPA Guidelines for Carcinogen Risk Assessment” and creation of guidelines for non-cancer risk assessment.

Availability of Meeting Materials: A meeting agenda and other materials for the meeting will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the June 5-6, 2019, meeting should contact Dr. Thomas Armitage, DFO, in writing (preferably via email) at the contact information noted above by May 29, 2019, to be placed on the list of registered speakers. Written Statements: Written statements for the June 5-6, 2019, meeting should be received in the SAB Staff Office by May 29, 2019, so that the information can be made available to the SAB for its consideration prior to the meeting. Written statements should be supplied to the DFO at the contact information above via email (preferred) or in hard copy with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Armitage at the phone number or email address noted above, preferably at least ten days prior to the meeting, to give the EPA as much time as possible to process your request.

Dated: April 25, 2019.
Khanna Johnston,
Deputy Director, EPA Science Advisory Board Staff Office.

[FR Doc. 2019-09590 Filed 5-8-19; 8:45 am]

BILLING CODE 6560-50-P